OFFICE OF MANAGEMENT AND BUDGET

Preparing and Auditing Direct Loan and Loan Guarantee Subsidies Under the Federal Credit Reform Act

AGENCY: Office of Management and Budget.

ACTION: Notice of document availability.

SUMMARY: This Notice indicates the availability of the third Financial Accounting and Auditing Technical Release, “Preparing and Auditing Direct Loan and Loan Guarantee Subsidies under the Federal Credit Reform Act.” The Federal Accounting Standards Advisory Board cleared the technical release on July 31, 1999. Technical Release No. 3 is available on Financenet at http://www.financenet.gov/financenet/fed/aapc/technicl.htm.

ADDRESSES: Copies of Technical Release No. 3 may be obtained free of charge from the Federal Accounting Standards Advisory Board, 441 G Street NW, Mailstop 6K17V, Washington, DC 20548 (telephone 202-512-7350).

FOR FURTHER INFORMATION CONTACT: David Zavada (telephone: 202-395-3993), Office of Federal Financial Management, Office of Management and Budget, 725 17th Street, N.W., Room 6025, Washington, DC 20503.

Joshua Gotbaum,
Executive Associate Director and Controller.

[FR Doc. 00-32008 Filed 12-14-00; 8:45 am]

BILLING CODE 3110-01-U